SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(f)

1. Cabot Oil & Gas Corporation, Pad ID: HaynesW P1, ABR-201706001, Harford Township, Susquehanna County, Pa.; Consumptive Use of Up to 5.0000 mgd; Approval Date: June 1, 2017.

2. Chesapeake Appalachia, LLC, Pad ID: Kupetsky, ABR-201211010.R1, Nicholson Township, Wyoming County, Pa.; Consumptive Use of Up to 7.5000 mgd; Approval Date: June 2, 2017.

3. Chesapeake Appalachia, LLC, Pad ID: Amcor, ABR-201211018.R1, Meshoppen Township, Wyoming County, Pa.; Consumptive Use of Up to 7.5000 mgd; Approval Date: June 2, 2017.

4. Pennsylvania General Energy Company, LLC, Pad ID: COP Tract 726 Pad B, ABR-201706002, Plunketts Creek Township, Lycoming County, Pa.; Consumptive Use of Up to 3.5000 mgd; Approval Date: June 7, 2017.

5. Alliance Petroleum Corporation, Pad ID: Sterling Run Club 4, ABR-201706003, Burnside Township, Centre County, Pa.; Consumptive Use of Up to 1.0000 mgd; Approval Date: June 15, 2017.

6. Alliance Petroleum Corporation, Pad ID: Sterling Run Club 5, ABR-201706004, Burnside Township, Centre County, Pa.; Consumptive Use of Up to 1.0000 mgd; Approval Date: June 15, 2017.

7. ARD Operating, LLC, Pad ID: Elbow F&G Pad B, ABR-201206007.R1, Cogan House Township, Lycoming County, Pa.; Consumptive Use of Up to 4.0000 mgd; Approval Date: June 19, 2017.

8. SWEPI LP, Pad ID: Harer 713, ABR-201206004.R1, Liberty Township, Tioga County, Pa.; Consumptive Use of Up to 4.0000 mgd; Approval Date: June 19, 2017.

9. SWEPI LP, Pad ID: Lovell 707, ABR-201206005.R1, Liberty Township, Tioga County, Pa.; Consumptive Use of Up to 4.0000 mgd; Approval Date: June 19, 2017.

10. SWEPI LP, Pad ID: Guillaume 714, ABR-201206009.R1, Liberty Township, Tioga County, Pa.; Consumptive Use of Up to 4.0000 mgd; Approval Date: June 19, 2017.

11. Chief Oil & Gas LLC, Pad ID: Harvey Drilling Pad, ABR-201212015.R1, Lemon Township, Wyoming County, Pa.; Consumptive Use of Up to 2.0000 mgd; Approval Date: June 30, 2017.

12. Chief Oil & Gas LLC, Pad ID: Cochran Drilling Pad, ABR-201301003.R1, West Burlington Township, Bradford County, Pa.; Consumptive Use of Up to 2.0000 mgd; Approval Date: June 30, 2017.

13. Chief Oil & Gas LLC, Pad ID: SGL 12 HARDY DRILLING PAD, ABR-201706005, Overton Township, Bradford County, Pa.; Consumptive Use of Up to 2.5000 mgd; Approval Date: June 30, 2017.

Authority: Pub. L. 91-575, 84 Stat. 1509 et seq., 18 CFR parts 806, 807, and 808.

Dated: July 20, 2017.
Stephanie L. Richardson,
Secretary to the Commission.

[FR Doc. 2017-15610 Filed 7-25-17; 8:45 am]

BILLING CODE 7040-01-P